DEPARTMENT OF TRANSPORTATION

Federal Highway Administration

Environmental Impact Statement: McCarthy, AK

AGENCY: Federal Highway Administration (FHWA), and Alaska Department of Transportation and Public Facilities (ADOT&PF).

ACTION: Notice of intent.

SUMMARY: The FHWA is issuing this notice to advise the public that an Environmental Impact Statement (EIS) and section 4(f) evaluation will be prepared for a proposed transportation improvement project on the McCarthy Road, Alaska.

FOR FURTHER INFORMATION CONTACT: Tim A. Haugh, Environment and Right-of-way Programs Manager, Federal Highway Administration, Alaska Division Office, 709 W. 9th Street, Room 851, PO Box 21648, Juneau, Alaska 99802-1648, (907) 586-7430, or Janet Brown, P.E., Project Manager, Alaska Department of Transportation and Public Facilities, Preliminary Design & Environmental, 2301 Peger Road, Fairbanks, Alaska 99709-5399, (907) 451-2283.

SUPPLEMENTARY INFORMATION: The FHWA, in cooperation with the ADOT&PF, will prepare an EIS for proposed improvements on McCarthy Road, from Chitina to the west bank of the Kennecott River, a distance of 60 miles.

The McCarthy Road links the community of McCarthy and the Kennecott Mines National Historic Landmark, to Chitina and the rest of the state road system. The road is the primary route into Wrangell-St. Elias National Park and Preserve (Wrangell-St. Elias NP&P), passing through a patchwork of National Park Service, State of Alaska Department of Natural Resources, Chitina Native Corporation, Athna Regional Corporation, University of Alaska, and private lands.

The majority of the existing road is along the route of the Copper River and Northwestern Railway. In many areas gravel was placed directly over the ties, which is still the driving surface. There are many short, sharp curves, resulting in limited sight distances. In several areas there are steep embankments with no guardrails and unstable side slopes that produce falling rocks and other debris. The roadway varies in width from 15-feet to 20-feet, the surface is very rough gravel, and in many areas there are no roadside ditches for drainage. The road surface commonly floods and is subject to severe icing.

Alternatives under consideration for this project include but are not limited to:

—No build; continued use of the current road, with limited on-going maintenance activities.

—Improving the most serious roadway deficiencies.

—Reconstructing the road to a design speed of 35 mph, considering all or some of the guidelines laid out in the “McCarthy Scenic Corridor Plan”; a joint document produced by National Park Service (NPS), ADOT&PF, adjacent land owners and resource agencies.

—Reconstructing the road to a design speed of 50 mph, meeting modern highway standards.

—Reconstruction the road as a rural, low-volume facility, addressing safety concerns in this context.

Under each alternative, minor realignments, the location and number of waysides and other enhancement facilities, and the final surfacing of the road (gravel or a hard surface) will be evaluated.

The proposed project aims to alleviate the problems described for the existing road and to provide a safe, reliable transportation link to McCarthy and Wrangell-St. Elias NP&P.

Input from appropriate Federal, State, tribal, local agencies, private organizations and citizens, and other stakeholders will be solicited throughout the development of the EIS. Newsletters, newspaper public notices, and a web site will be used as mechanisms for transmitting information and obtaining comments. A series of agency and public meetings will be held in McCarthy, Chitina, and Anchorage, Alaska throughout the EIS process. In addition, public hearings will be held in McCarthy, Chitina, and Anchorage, Alaska. Public notice will be given of the time and place of the meetings and hearings. The Draft EIS will be made available for public and agency review and comment prior to the public hearing. A formal agency scoping meeting will be held in Anchorage, Alaska in December 2003. Formal public scoping meetings will be held in McCarthy, Chitina, and Anchorage, Alaska, by late spring 2004.

To ensure that the full range of issues related to this proposed action are addressed and all significant issues are identified, written public input, comments, and suggestions on environmental issues or concerns related to the proposed improvements are invited from all interested parties. Comments or questions concerning this proposed action and the EIS should be directed to the FHWA or the ADOT&PF at the addresses provided above.

(Catalog of Federal Domestic Assistance Program Number 20-205, Highway Research, Planning and Construction. The regulations implementing Executive Order 12372 regarding intergovernmental consultation on Federal programs and activities apply to this program.)
Issued on: October 28, 2003.
Tim A. Haugh,
Environment and Right of Way Programs, Manager, Juneau, Alaska.

[FR Doc. 03-27781 Filed 11-4-03; 8:45 am]

BILLING CODE 4910-22-M